DEPARTMENT OF HEALTH AND HUMAN SERVICES

Administration for Children and Families

[OMB #: 0970-0307]

Proposed Information Collection Activity; State Court Improvement Program

AGENCY: Children's Bureau, Administration for Children and Families, U.S. Department of Health and Human Services.

ACTION: Request for public comments.

SUMMARY: The Administration for Children and Families (ACF) is requesting a 3-year extension of the State Court Improvement Program (SCIP) Strategic Plan Template and Annual Self-Assessment (Office of Management and Budget (OMB) #0970-0307, expiration February 28, 2026). There are minor updates to the self-assessment to reflect new legislation as well as to support technical assistance. The collections are necessary to continue operating the program in compliance with congressional reauthorization.

DATES: Comments due November 10, 2025.

ADDRESSES: In compliance with the requirements of the Paperwork Reduction Act of 1995, ACF is soliciting public comment on the specific aspects of the information collection described above. You can obtain copies of the proposed collection of information and submit comments by emailing opreinfocollection@acf.hhs.gov. Identify all requests by the title of the information collection.

SUPPLEMENTARY INFORMATION:

Description: The SCIP provides federal funding to state courts to assess their child welfare and judicial practices and develop and implement improvement plans. States use funds in a variety of ways, including improving legal representation and hearing quality, enhancing the engagement of families in court proceedings, and supporting child welfare and court partnerships. The proposed collection is a continuation of the current collection and comprised of two instruments: a strategic plan and self-assessment. The self-assessment reflects what the state has done in the prior year focusing on its progress and status within the change management cycle. The strategic plan looks forward to those interventions and actions the state plans to undertake to address needs or buttress strengths they have discovered in their assessment activities. These two instruments serve as an application for annual SCIP funding as well as a source for data which are shared back with SCIP grantees to support their community learning and peer connections, to inform technical assistance, and support any reporting to Congress and others. Regarding updates to the self-assessment and strategic plan, a minor change was made early in 2025 to the self-assessment in response to Executive Orders, amounting to one optional topical box and a few drop-down categories being removed. Additionally, at this time, the following minor changes are proposed to the currently approved version of the self-assessment. These do not impact estimated time to respond.

• Brief questions were added on IV-E funding, self-assessment point of contact or publishing information, and additional collaborative partners.

• Dropdown categories have been added to reduce burden and improve data where `other' was too often selected.

• Some questions about technical assistance states participated in were removed because alternative data sources were found that reduced burden.

No changes are proposed to the strategic plan.

The next application will be due June 30, 2026.

Respondents: We anticipate the highest state court of every state, the District of Columbia, Puerto Rico, and the U.S. Virgin Islands to respond. All 53 jurisdictions currently participate in the program. One response from each jurisdiction is anticipated.

Annual Burden Estimates
Instrument | Total number of respondents | Annual number of responses per respondent | Average burden hours per response | Annual burden hours
Annual Self-Assessment | 53 | 1 | 40 | 2,120
Strategic Plan | 53 | *.20 | 52 | 551.2
Estimated Total Annual Burden Hours |  |  |  | 2,671.20
* The full Strategic Plan is completed every 5 years. In years when the Strategic Plan is not completed, respondents may spend minimal time updating relevant sections of the Strategic Plan. This is accounted for in the estimate for the Annual Self-Assessment.

Comments: The Department specifically requests comments on (a) whether the proposed collection of information is necessary for the proper performance of the functions of the agency, including whether the information shall have practical utility; (b) the accuracy of the agency's estimate of the burden of the proposed collection of information; (c) the quality, utility, and clarity of the information to be collected; (d) ways to minimize the burden of the collection of information on respondents, including through the use of automated collection techniques or other forms of information technology.

In addition, the Children's Bureau (CB) would specifically like to highlight:

(e) Regarding IV-E legal representation funding, in addition to asking an open-ended question about this topic in the Self-Assessment, would additional data elements around type of attorneys funded (e.g., agency, kin) or type of cases (e.g., only in foster care, in other civil matters) be useful? These data are not needed for SCIP application approval by CB but could be compiled and shared back with grantees to support peer learning and connections. From your cost/benefit vantage, would this be worth including? And;

(f) Under section II of the Self-Assessment, for the optional project areas, each has a box on any training associated with the projects that includes more granular information such as the number of attendees, mode of delivery, and evaluation. This level of detail was formerly useful for CB in reviewing for grant compliance when there were three separate SCIP grants, one of which was for training. With the statutory merger of the SCIP grants, this level of detail is no longer needed for CB for grant compliance. These data can still be organized to share back with grantees to support peer learning and connections. From your cost/benefit vantage, would this be worth keeping or should we remove that level of detail? Consideration will be given to comments and suggestions submitted within 60 days of this publication.

Authority: 42 U.S.C. 629h.

Mary C. Jones,
ACF/OPRE Certifying Officer.

[FR Doc. 2025-17275 Filed 9-8-25; 8:45 am]

BILLING CODE 4184-29-P